FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 10, 2008.

A. Federal Reserve Bank of Atlanta (Steve Foley, Vice President) 1000 Peachtree Street, N.E., Atlanta, Georgia 30309:

1. The Harry L. Rankin, Jr. Family, Columbia, Mississippi (members include Elizabeth Barrett Arinder, Elizabeth Carolyn Rankin Arinder, Lannye Olivia Brickwell Arinder, Olive Elizabeth Clower Beach, and Marianne Rankin, all of Columbia, Mississippi; Christopher Charles Rankin Arinder, Hattiesburg, Mississippi; Benjamin Thomas Newton, Ocean Springs, Mississippi; Christopher Harry Lee Rankin, College Station, Texas; and Thomas Stephen Clower Rankin, Dallas, Texas), to collectively acquire additional voting shares of Citizens Corporation, and thereby indirectly acquire additional voting shares of Citizens Bank, both of Columbia, Mississippi.

Board of Governors of the Federal Reserve System, October 21, 2008.
Robert deV. Frierson,
Deputy Secretary of the Board.

[FR Doc. E8-25384 Filed 10-23-08; 8:45 am]

BILLING CODE 6210-01-S